DEPARTMENT OF THE TREASURY

Office of Foreign Assets Control

Publishing Additional Identifying Information Associated With Persons Whose Property and Interests in Property Are Blocked Pursuant to the Foreign Narcotics Kingpin Designation Act

AGENCY: Office of Foreign Assets Control, Treasury.

ACTION: Notice.

SUMMARY: The U.S. Department of the Treasury's Office of Foreign Assets Control (“OFAC”) is publishing additional identifying information associated with the names of three individuals identified by the President of the United States on May 30, 2014, whose property and interests in property have been blocked pursuant to the Foreign Narcotics Kingpin Designation Act (“Kingpin Act”) (21 U.S.C. §§ 1901-1908, 8 U.S.C. § 1182).

DATES: The President of the United States identified the three individuals in this notice pursuant to 21 U.S.C. 1903 (b)(1) of the Kingpin Act on May 30, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

OFAC is publishing additional identifying information associated with the following three individuals the President of the United States identified on May 30, 2014, whose property and interest in property are blocked pursuant to Section 21 U.S.C. 1903 (b)(1) of the Kingpin Act:

1. BARROS, Francisco de Fatima Frederico (a.k.a. BARROS FREDERICO, Lucio Francisco de Fatima; a.k.a. “CHICO BARROS”); DOB 13 May 1967; alt. DOB 06 Jun 1970; POB Praia, Cabo Verde; nationality Cabo Verde; citizen Cabo Verde; alt. citizen Guinea-Bissau; Passport I066302 (Cabo Verde); alt. Passport CA0120780 (Guinea-Bissau) issued 08 Apr 2006 expires 07 Apr 2009; National ID No. 16128971 (Cabo Verde) (individual) [SDNTK].

2. NAVARRO CERRANO, Victor Ramon (a.k.a. “MEGATEO”); DOB 25 Jan 1976; POB San Calixto, Norte de Santander, Colombia; citizen Colombia; Cedula No. 0088282754 (Colombia) (individual) [SDNTK].

3. SALAZAR UMANA, Jose Adan (a.k.a. “CHEPE DIABLO”), Metapan, Santa Ana, El Salvador; DOB 16 Jun 1948; POB Metapan, El Salvador; nationality El Salvador; citizen El Salvador; National ID No. 02071606480022 (El Salvador) (individual) [SDNTK].

Dated: May 30, 2014.
Adam J. Szubin,
Director, Office of Foreign Assets Control.

[FR Doc. 2014-13347 Filed 6-6-14; 8:45 am]

BILLING CODE 4810-AL-P